DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Multispecies Days-at-Sea Leasing Program.

OMB Control Number: 0648-0475.

Form Number(s): None.

Type of Request: Regular submission.

Burden Hours: 584.

Number of Respondents: 1,400.

Average Hours per Response: Applications for days-at-sea leasing, 5 minutes; and applications to downgrade days-at-sea leasing baseline, 1 hour.

Needs and Uses: The National Marine Fisheries Service (NMFS) is requesting a three-year renewal of this information collection in order to continue management of the days-at-sea (DAS) Leasing Program for the Northeast (NE) Multispecies Fishery Management Plan (FMP), developed under the authority of the Magnuson-Stevens Conservation and Management Act (Magnuson-Stevens Act), 16 U.S.C. 1801 et seq. The reduction in the DAS allocated to permit holders through several management actions has limited the ability of some vessels to participate in the fishery, resulting in a loss of revenue and/or the ability to operate at a profit. The DAS Leasing Program was established in Amendment 13 to the NE Multispecies FMP (0648-AN17 (69 FR 22906)). The DAS Leasing Program has enabled vessels to increase their revenue either by leasing additional DAS from another vessel and using them to increase their participation in the fishery, or by leasing allocated DAS that they may not use to certain other vessels.

Affected Public: Business or other for-profit organizations.

Frequency: Annually and one time only.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 8, 2009.
Gwellnar Banks,
Management Analyst, Office of the Chief Information Officer.

[FR Doc. E9-13701 Filed 6-10-09; 8:45 am]

BILLING CODE 3510-22-P